DEPARTMENT OF THE INTERIOR

Fish and Wildlife Service

[FWS-R4-R-2011-N078; 40136-1265-0000-S3]

Proposed Establishment of Everglades Headwaters National Wildlife Refuge and Conservation Area

AGENCY: Fish and Wildlife Service, Interior.

ACTION: Notice of availability: draft land protection plan and environmental assessment; request for comments.

SUMMARY: We, the Fish and Wildlife Service (Service), propose to establish a national wildlife refuge and conservation area in Polk, Osceola, Highlands, and Okeechobee Counties, in central and south Florida. A draft Land Protection Plan (LPP) and Environmental Assessment (EA) for the establishment of the proposed refuge and conservation area were prepared with input from Federal, State, and local agencies; Native American tribal nations; various non-governmental organizations; and the public. The EA considers the biological, environmental, and socioeconomic impacts of establishment of the refuge and conservation area and evaluates alternatives. The LPP describes the alternative we propose for the establishment of the refuge and conservation area.

DATES: To ensure consideration of your comments, we must receive your written comments by October 24, 2011. We will schedule public meetings during this public review and comment period. We will also inform the public of the public review and comment period and the dates, locations, and times of public meetings through mailings, press releases, and the Service's Everglades Headwaters webpage: http://www.fws.gov/southeast/evergladesheadwaters.

ADDRESSES: You may obtain a copy of the draft LPP and EA via U.S. mail at Everglades Headwaters Proposal, Fish and Wildlife Service, P.O. Box 2683, Titusville, FL 32781-2683, via e-mail at EvergladesHeadwatersProposal@fws.gov, or by calling the Merritt Island National Wildlife Refuge Complex at 321/861-0067 (telephone). Alternatively, you may download the document from our Internet Site at http://www.fws.gov/southeast/evergladesheadwaters. You may submit comments on the draft LPP and EA to the above postal address, e-mail address, or to 321/861-1276 (fax).

FOR FURTHER INFORMATION CONTACT: Ms. Cheri M. Ehrhardt, Natural Resource Planner, at 321/861-2368 (telephone) or Mr. Charlie Pelizza, Refuge Manager, at 772/562-3909, extension 244 (telephone).

SUPPLEMENTARY INFORMATION: We propose to establish a national wildlife refuge and conservation area in Polk, Osceola, Highlands, and Okeechobee Counties in central and south Florida. The proposed refuge and conservation area would carry out many valuable functions, including the following: (1) Conduct landscape-scale strategic habitat conservation necessary to conserve important resources through partnerships and responsible stewardship; (2) protect and enhance habitats for Federal trust species and species of management concern, with special emphasis on species listed under the Endangered Species Act; (3) protect State-listed species; (4) protect and enhance biological diversity; (5) protect and enhance prairie, scrub, sandhill, flatwoods, and various wetland habitats within this landscape; (6) protect the headwaters, groundwater recharge, and watershed of the Kissimmee Chain of Lakes, Kissimmee River, and Lake Okeechobee region, which would help improve water quantity and quality in the Everglades watershed; (7) protect and enhance habitat corridors and implement other wildlife adaptation strategies to help buffer the impacts of climate change; and (8) provide opportunities for hunting, fishing, wildlife observation, wildlife photography, and environmental education and interpretation, while promoting activities that complement the purposes of the refuge and other protected lands in the region.

Recognizing the generations of responsible stewardship within this working rural landscape, this proposal seeks to work with willing landowners to secure a legacy of conservation lands for future generations to enjoy. This proposal aims to protect and restore one of the great grassland and savanna landscapes of eastern North America, conserving one of the nation's prime areas of biological diversity. Further, the proposal aims to address the threats from habitat fragmentation, urban development, and altered ecological processes, and the impacts from global climate change. Key species and habitats of concern for this area include: Florida grasshopper sparrow, Everglades snail kite, Florida black bear, Audubon's crested caracara, red-cockaded woodpecker, and the cutthroat wetlands habitats. By working with willing landowners, the Service is proposing to establish a national wildlife refuge and conservation area on 150,000 acres by focusing fee title acquisition activities on 50,000 acres of refuge area, while supporting landscape-scale conservation activities and focusing conservation easements on another 100,000 acres.

Next Step

After the comment period ends, we will analyze the comments and address them.

Public Availability of Comments

Before including your address, phone number, e-mail address, or other personal identifying information in your comment, you should be aware that your entire comment—including your personal identifying information—may be made publicly available at any time. While you can ask us in your comment to withhold your personal identifying information from public review, we cannot guarantee that we will be able to do so.

Authority

This notice is published under the authority of the National Wildlife Refuge System Improvement Act of 1997, Public Law 105-57.

Dated: April 27, 2011.
Mark J. Musaus,
Acting Regional Director.

[FR Doc. 2011-23051 Filed 9-7-11; 8:45 am]

BILLING CODE 4310-55-P